DEPARTMENT OF HEALTH AND HUMAN SERVICES

Centers for Disease Control and Prevention

[60Day-09-09CH]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 and send comments to Maryam I. Daneshvar, CDC Acting Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

A Controlled Evaluation of Expect Respect Support Groups (ERSG): Preventing and Interrupting Teen Dating Violence among At-Risk Middle and High School Students—New—National Center for Injury Prevention and Control (NCIPC), Division of Violence Prevention (DVP), Centers for Disease Control and Prevention (CDC).

Background and Brief Description

The prevalence and consequences of teen dating violence make it a public health concern that requires early and effective prevention. To date, only three prevention strategies—Safe Dates, the Youth Relationships Project, and 4th R—have demonstrated reductions in dating violence behaviors in rigorous, controlled evaluations. In order to protect young people and build an evidence-base of effective prevention strategies, evaluation of additional programs is needed, including those programs currently in the field. Expect Respect Support Groups (provided by SafePlace) are currently in use in the Austin Independent School District and demonstrated promising results in an uncontrolled program evaluation, suggesting a controlled evaluation is warranted to more rigorously examine program effects. The proposed study has one primary aim and two exploratory aims. The primary aim is to evaluate the effectiveness of Expect Respect Support Groups (ERSG) to prevent and reduce teen dating violence and increase healthy conflict resolution skills reported by at-risk male and female middle and high school students compared to at-risk students in control schools who do not receive ERSG. The exploratory aims are: (1) To evaluate whether or not the effectiveness of ERSG is enhanced by the presence of a universal, school-wide prevention program, and (2) To examine moderators and mediators of targeted and universal teen dating violence interventions, such as biological sex and history of abuse at intake.

The proposed evaluation will use a quasi-experimental/non-randomized design in which a convenience sample of participants in schools receiving targeted prevention services are compared to students in control schools in which no dating violence prevention services are available. Control schools will be selected that have characteristics (e.g., risk status, socio-economic status) similar to the Austin Independent School District intervention schools.

Based on past, uncontrolled program evaluation of Expect Respect Support groups, we anticipate that in the Austin Independent School District and neighboring district(s), 800 students will undergo an intake assessment, of whom 600 will be eligible for Expect Respect Support groups and will complete the baseline survey. We expect 400 students to complete the survey and two-follow-up assessments. Therefore, over three years 2400 students will undergo an intake assessment, of whom we will recruit 1800 students into the study (300 per year from intervention schools and 300 per year from control schools), of whom we anticipate 1200 will have complete data.

There is no cost to respondents other than their time.

Estimated Annualized Burden Hours
Type of respondent | Form name | Number of respondents | Number of responses per respondent | Average burden per response (in hours) | Total burden (in hours)
Middle and High School Students | Intake assessment | 800 | 1 | 15/60 | 200
| Baseline Survey | 600 | 1 | 1 | 600
| Completion Survey | 400 | 1 | 1 | 400
| Follow-up Survey 1 | 400 | 1 | 1 | 400
| Follow-up Survey 2 | 400 | 1 | 1 | 400
Total |  |  |  |  | 2000

Dated: July 24, 2009.
Marilyn S Radke,
Reports Clearance Officer, Centers for Disease Control and Prevention.

[FR Doc. E9-18604 Filed 8-3-09; 8:45 am]

BILLING CODE 4163-18-P